DEPARTMENT OF THE INTERIOR

Bureau of Reclamation

[RR01113000, XXXR0680R1, RR.R0336A1R.7WRMP0032]

Notice of Availability of a Final Environmental Impact Statement for the Cle Elum Pool Raise Project, Kittitas County, Washington

AGENCY: Bureau of Reclamation, Interior.

ACTION: Notice.

SUMMARY: The Bureau of Reclamation and Washington State Department of Ecology, as joint lead agencies, have made available the Cle Elum Pool Raise Project Final Environmental Impact Statement (EIS). The Final EIS describes the potential environmental effects of the No Action Alternative and four action alternatives to modify the existing radial gates in the Cle Elum Dam spillway to provide an additional 14,600 acre-feet of storage capacity in Cle Elum Reservoir, put the additional stored water to beneficial use, provide for shoreline protection of the reservoir, and implement necessary environmental mitigation. The Final EIS also includes responses to all public comments on the Draft EIS.

DATES: Reclamation will not make a decision on the proposed action until at least 30 days after the Environmental Protection Agency publishes the notice of availability of the Final EIS in the Federal Register. Following the 30-day wait period, Reclamation may complete a Record of Decision (ROD).

ADDRESSES: Send requests for copies of the Final EIS to Ms. Candace McKinley, Bureau of Reclamation, 1917 Marsh Road, Yakima, WA 98901, 509-575-5848, ext. 613, or via email to cepr@usbr.gov. The Final EIS is also accessible from the following Web site: http://www.usbr.gov/pn/programs/eis/cleelumraise/index.html.

FOR FURTHER INFORMATION CONTACT: Ms. Candace McKinley, 509-575-5848, ext. 613; or by email at cepr@usbr.gov.

SUPPLEMENTARY INFORMATION: The Final EIS documents the potential direct, indirect, and cumulative physical, biological, and socioeconomic environmental effects that may result from increasing the reservoir storage capacity.

The Final EIS evaluates the construction and operation of modified radial gates at Cle Elum Dam to enable a 3-foot raise in the reservoir pool (14,600 acre-feet additional storage capacity), use of the additional stored water to improve instream flows or to supplement the Yakima Project Total Water Supply Available, raising the height of three existing dikes, raising the height of access roads and facilities at the U.S. Forest Service Cle Elum River Campground and Wish-Poosh boat ramp, implementing shoreline protection to reduce erosion, and acquiring private property and easements to accommodate shoreline protection. The primary project objectives are to: (1) Fulfill the intent of the congressional authorization given in sections 1205 and 1206, Title XII, Yakima River Basin Water Enhancement Project (YRBWEP), of Public Law 103-434, Yavapai-Prescott Indian Tribe Water Rights Settlement Act of 1994; (2) improve aquatic resources for fish habitat, rearing, and migration in the Cle Elum and upper Yakima Rivers; and (3) (if authorized by Congress) help meet demands for agricultural water supply.

The primary study area encompasses the Cle Elum Reservoir, the adjacent area that would be inundated by the proposed 3-foot raise in the full-pool reservoir level, and areas that could be directly affected by construction or operations-related activities, including the spillway, dikes, adjacent lands, and public recreation resources. The extended study area includes the Cle Elum and Yakima rivers downstream from Cle Elum Dam; lands, municipalities, and instream uses served by Cle Elum and Yakima rivers water rights; and the larger Yakima Project area.

A ROD will identify all the alternatives considered, including the environmentally preferable alternative and the action selected for implementation, if they are not the same. A ROD will also discuss the factors and rationale used in making the decision; provide information on the adopted means to avoid, minimize and compensate for environmental impacts; describe any monitoring and enforcement program to ensure that adopted mitigation is accomplished; and address any significant comments received on the Final EIS.

Authority

The Cle Elum Pool Raise Project is authorized in sections 1205 and 1206 of Title XII of the Yavapai-Prescott Indian Tribe Water Rights Settlement Act of 1994.

Public Review of Final EIS

The Final EIS is available for public inspection at the following locations:

1. Bureau of Reclamation, Pacific Northwest Regional Office, 1150 N Curtis Road, Boise, Idaho 83706.

2. Bureau of Reclamation, Columbia-Cascades Area Office, 1917 Marsh Road, Yakima, Washington 98901.

3. Washington State Department of Ecology, 15 W. Yakima Avenue, Suite 200, Yakima, Washington 98902.

Public Disclosure

Before including your address, phone number, email address, or other personal identifying information in your comment, you should be aware that your entire comment-including your personal identifying information-may be made publicly available at any time. While you can ask us in your comment to withhold your personal identifying information from public review, we cannot guarantee that we will be able to do so.

Dated: May 4, 2015.
Lorri J. Lee,
Regional Director, Pacific Northwest Region.

[FR Doc. 2015-11134 Filed 5-7-15; 8:45 am]

BILLING CODE 4332-90-P